FEDERAL COMMUNICATIONS COMMISSION

Technological Advisory Council; Charter Renewal

AGENCY: Federal Communications Commission.

ACTION: Notice of charter renewal.

SUMMARY: The Federal Communications Commission has renewed the charter for the Technological Advisory Council (“TAC”) for a 2-year period, through November 19, 2006. The Council is a federal advisory committee under the Federal Advisory Committee Act (Pub. L. 92-463).

DATES: Renewed through November 19, 2006.

ADDRESSES: Federal Communications Commission, 445 12th Street, SW., Commission Meeting Room (TW-C305), Washington, DC 20554.

FOR FURTHER INFORMATION CONTACT: Jeffery Goldthorp, the Designated Federal Officer (DFO), Office of Engineering and Technology, (202) 418-1096 (voice), (202) 418-2989 (TTY), or e-mail Jeffery.Goldthorp@fcc.gov.

SUPPLEMENTARY INFORMATION:

Technological Advisory Council Charter

A. The Committee's Official Designation

The official designation of this federal advisory committee is the “Technological Advisory Council” (“TAC”).

B. The Committee's Objective and Scope of Its Activity

Rapid advances in technology have resulted in innovations in how telecommunications services are provided to, and are accessed by, users of those services. Many of these advances are increasing the rate of convergence among categories of services that have traditionally been viewed as distinct, such as cable television services, telephony, data services, and internet services. Regulations must be examined in light of these technology advances, and the Federal Communications Commission (“FCC”) must remain abreast of new developments in technology so that it can effectively fulfill its responsibilities under the Communications Act.

The purpose of the TAC is to provide technical advice to the Federal Communications Commission and to make recommendations on the issues and questions presented to it by the FCC. The TAC will address questions referred to it by the FCC Chairman, by the FCC Chief Office of Engineering and Technology or by the TAC Designated Federal Officer. The questions referred to the TAC will be directed to technological and technical issues in the field of communications.

Each scheduled TAC meeting will be organized according to a particular technical theme to be decided in advance by the TAC Chairman and the TAC Designated Federal officer. The TAC Chairman will make the necessary arrangements to have presenters from different segments of the telecommunications industry present points of view on the theme. The objective of the meeting will be to educate the FCC on new technology trends and to advise the FCC of potential regulatory obstacles to their development and deployment.

C. Period of Time Necessary for the Committee To Carry Out Its Purpose

Under its renewed charter, the TAC shall convene for a period that terminates two (2) years from the date on which the renewed charter is field. The charter may be renewed for an additional two years prior to the charter termination date.

D. Official to Whom the Committee Reports

Chairman, Federal Communications Commission.

E. Agency Responsible for Providing Necessary Support

The Federal Communications Commission will provide the facilities and staff support necessary to conduct meetings in Washington, DC. Private sector members of the committee will serve without any government compensation, and will not be entitled to travel expenses, per diem or subsistence allowances.

F. Description of the Duties for Which the Committee Is Responsible

The duties of the TAC will be to gather data and information and perform those analyses that are necessary to respond to the questions referred to it.

G. Estimated Annual Operating Costs in Dollars and Staff Years

Annual operating costs associated with supporting the TAC's functions are estimated to be $100,000 and one full-time regular government employee.

H. Estimated Number and Frequency of Committee Meetings

The Council will meet three to five times per year, with the possibility of more frequent meetings by informal subcommittees.

I. Committee's Termination Date

The Council will terminate two years from the date on which this renewed charter is filed, unless renewed before that date for an additional term. Upon renewal, the present charter termination date is November 19, 2006.

J. Membership

Members will be selected to balance the expertise and viewpoints that are necessary to address effectively the new technology issues that will be referred to the TAC.

Members should be prepared to attend three to five meetings per year in Washington D.C. and are responsible for all associated expenses. The TAC will maintain a website and members are expected members are expected to be able to devote some time each week to electronic deliberations. As members of a collegial federal advisory committee, members should be prepared for vigorous debate with their peers on TAC as well as with FCC Commission and staff. Members will have an initial and continuing obligation to disclose any interests in, or connections to, persons or entities who are, or will, be regulated by or who have interests before the FCC.

K. Charter Filing Date

November 19, 2004.

Federal Communications Commission.
Marlene H. Dortch,
Secretary.

[FR Doc. 05-5403 Filed 3-17-05; 8:45 am]

BILLING CODE 6712-01-M